DEPARTMENT OF EDUCATION

34 CFR Chapter VI

Negotiated Rulemaking Committee, Notice of Additional Committee Meeting—Title IV Federal Student Aid Programs, Program Integrity and Improvement

AGENCY: Office of Postsecondary Education, Department of Education.

ACTION: Notice of intent to establish negotiated rulemaking committee.

SUMMARY: On November 20, 2013, we announced our intention to establish a negotiated rulemaking committee to prepare proposed regulations to address program integrity and improvement issues for the Federal Student Aid Programs authorized under Title IV of the Higher Education Act of 1965, as amended (HEA), (Title IV Federal Student Aid Programs). We also announced the schedule for three sessions of committee meetings. We now announce the addition of a fourth session, consisting of two days of committee meetings to focus on the development of proposed regulations to define “adverse credit” for borrowers in the Federal Direct PLUS Loan Program.

DATES: The dates, times, and locations of the fourth session are set out in the Schedule for Negotiations section under SUPPLEMENTARY INFORMATION, below.

FOR FURTHER INFORMATION CONTACT: For information about the content of this notice, including information about the negotiated rulemaking process, contact: Wendy Macias, U.S. Department of Education, 1990 K Street NW., room 8017, Washington, DC 20006. Telephone: (202) 502-7526 or by email: wendy.macias@ed.gov.

For general information about the negotiated rulemaking process, see The Negotiated Rulemaking Process for Title IV Regulations, Frequently Asked Questions at http://www2.ed.gov/policy/highered/reg/hearulemaking/hea08/neg-reg-faq.html.

If you use a telecommunications device for the deaf or text telephone, call the Federal Relay Service, toll free, at 1-800-877-8339.

Individuals with disabilities can obtain this document in an accessible format (e.g., braille, large print, audiotape, or compact disc) on request to the program contact person listed under FOR FURTHER INFORMATION CONTACT.

SUPPLEMENTARY INFORMATION: On November 20, 2013, we published a document in the Federal Register (78 FR 69612) announcing our intention to establish a negotiated rulemaking committee to prepare proposed regulations to address program integrity and improvement issues for the Title IV Federal Student Aid Programs. In that notice, we set a schedule for three sessions of committee meetings and requested nominations for individual negotiators who represent key stakeholder constituencies for the issues to be negotiated to serve on the committee.

At the committee meeting on March 26, 2013, the Department proposed that a fourth committee meeting be scheduled to ensure that the Committee had sufficient time to discuss the issues, in view of additional time being devoted to the gathering and consideration of data pertinent to defining “adverse credit” for borrowers in the Federal Direct PLUS Loan Program. The Committee approved the proposal by consensus.

We now announce the addition of a fourth session consisting of committee meetings to take place May 19-20, 2014, to focus on the development of proposed regulations to define “adverse credit,” but also to discuss, subject to time available, any other issues remaining open from the initial three meetings. The meetings will run from 9 a.m. to 5 p.m. The schedule for the fourth session follows.

Schedule for Negotiations: The committee will meet for its fourth and final session on May 19-20, 2014. The meetings will run from 9 a.m. to 5 p.m.

The meetings will be held at the U.S. Department of Education at: 1990 K Street NW., Eighth Floor Conference Center, Washington, DC 20006. The meetings are open to the public.

Electronic Access to This Document: The official version of this document is the document published in the Federal Register. Free Internet access to the official edition of the Federal Register and the Code of Federal Regulations is available via the Federal Digital System at: www.gpo.gov/fdsys. At this site you can view this document, as well as all other documents of the Department published in the Federal Register, in text or Adobe Portable Document Format (PDF). To use PDF you must have Adobe Acrobat Reader, which is available free at the site. You may also access documents of the Department published in the Federal Register by using the article search feature at: www.federalregister.gov. Specifically, through the advanced search feature at this site, you can limit your search to documents published by the Department.

Program Authority: 20 U.S.C. 1098a.

Dated: April 8, 2014.
Lynn B. Mahaffie,
Senior Director, Policy Coordination, Development, and Accreditation Service, delegated the authority to perform the functions and duties of the Assistant Secretary for Postsecondary Education.

[FR Doc. 2014-08211 Filed 4-10-14; 8:45 am]

BILLING CODE 4000-01-P